DEPARTMENT OF ENERGY

Federal Energy Regulatory Commission

[Project No. 13563-001]

Juneau Hydropower, Inc.; Notice of Intent To File License Application, Filing of Pre-Application Document, and Approving Use of the Alternative Licensing Procedures

September 24, 2010.

a. Type of Filing: Notice of Intent to File License Application and Request to Use the Alternative Licensing Procedures.

b. Project No.: 13563-001.

c. Dated Filed: July 28, 2010.

d. Submitted By: Juneau Hydropower, Inc.

e. Name of Project: Sweetheart Lake Hydroelectric Project.

f. Location: On the Lower Sweetheart Lake and Sweetheart Creek in the City and Borough of Juneau, Alaska. The project will occupy United States lands located in the Tongass National Forest administered by the National Forest Service.

g. Filed Pursuant to: 18 CFR 5.3 of the Commission's regulations.

h. Potential Applicant Contact: Duff W. Mitchell, Juneau Hydropower, Inc., P.O. Box 22775, Juneau, AK 99802; (907) 789-2775; e-mail at duff.mitchell@juneauhydro.com.

i. FERC Contact: Jennifer Harper at (202) 502-6136; or e-mail at jennifer.harper@ferc.gov.

j. Juneau Hydropower, Inc. filed its request to use the Alternative Licensing Procedures on July 28, 2010. Juneau Hydropower, Inc. provided public notice of its request on August 13, 2010. In a letter dated September 24, 2010, the Director of the Office of Energy Projects approved Juneau Hydropower, Inc.'s request to use the Alternative Licensing Process.

k. With this notice, we are initiating informal consultation with: (a) The U.S. Fish and Wildlife Service and NOAA Fisheries under section 7 of the Endangered Species Act and the joint agency regulations thereunder at 50 CFR, Part 402; (b) NOAA Fisheries under section 305(b) of the Magnuson-Stevens Fishery Conservation and Management Act and implementing regulations at 50 CFR 600.920; and (c) the Alaska State Historic Preservation Officer, as required by section 106, National Historical Preservation Act, and the implementing regulations of the Advisory Council on Historic Preservation at 36 CFR 800.2.

l. On August 20, 2010, the Commission designated Juneau Hydropower, Inc. as the Commission's non-federal representative for carrying out informal consultation, pursuant to section 7 of the Endangered Species Act, and section 305 of the Magnuson-Stevens Fishery Conservation and Management Act. On August 24, 2010, the Commission designated Juneau Hydropower, Inc. as the Commission's non-federal representative for carrying out informal consultation pursuant to section 106 of the National Historic Preservation Act.

m. Juneau Hydropower, Inc. filed a Pre-Application Document (PAD; including a proposed process plan, schedule, and communications protocol) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov or toll free at 1-866-208-3676, or for TTY, (202) 502-8659. A copy is also available for inspection and reproduction at the address in paragraph h.

o. Register online at http://www.ferc.gov/docs-filing/esubscription.asp to be notified via e-mail of new filing and issuances related to this or other pending projects. For assistance, contact FERC Online Support.

Kimberly D. Bose,
Secretary.

[FR Doc. 2010-24935 Filed 10-4-10; 8:45 am]

BILLING CODE 6717-01-P